DEPARTMENT OF ENERGY

Bonneville Power Administration

COB Energy Facility

AGENCY: Bonneville Power Administration (BPA), Department of Energy (DOE).

ACTION: Notice of availability of record of decision (ROD).

SUMMARY: This notice announces the availability of the ROD for the electrical interconnection of the COB Energy Facility with the Federal Columbia River Transmission System. Based on the COB Energy Facility Final Environmental Impact Statement (DOE/EIS-0343, June 2004), BPA has decided to offer contract terms providing for interconnection of the COB Energy Facility, proposed for siting in Klamath County, Oregon, at BPA's Captain Jack Substation, also in Klamath County, Oregon.

ADDRESSES: Copies of the ROD and EIS may be obtained by calling BPA's toll-free document request line, 1-800-622-4520. The ROD and EIS are also available on our Web site, http://www.efw.bpa.gov.

FOR FURTHER INFORMATION, CONTACT: Thomas C. McKinney, Bonneville Power Administration—KEC-4, P.O. Box 3621, Portland, Oregon, 97208-3621; toll-free telephone number 1-800-282-3713; fax number 503-230-5699; or e-mail tcmckinney@bpa.gov.

Issued in Portland, Oregon, on August 20, 2004.
Stephen J. Wright,
Administrator and Chief Executive Officer.

[FR Doc. 04-19667 Filed 8-27-04; 8:45 am]

BILLING CODE 6450-01-P